DEPARTMENT OF THE TREASURY

United States Mint

Senior Executive Service Combined Performance Review Board

AGENCY: United States Mint, Treasury Department.

ACTION: Notice of appointment of members to the Combined Performance Review Board.

SUMMARY: Pursuant to 5 U.S.C. 4314(c)(4), this notice announces the appointment of members of the Combined Performance Review Board (Board) for the United States Mint, the Financial Management Service (FMS), the Bureau of Public Debt (BPD), the Bureau of Engraving and Printing (BEP) and the Alcohol and Tobacco Tax and Trade Bureau (TTB). The Combined PRB reviews the performance appraisals of career senior executives below the level of bureau head and principal deputy in the five bureaus, except for executives below the Assistant Commissioner level in the FMS. The Combined PRB makes recommendations regarding proposed performance appraisals, ratings, bonuses and other appropriate personnel actions.

Composition of Combined PRB

The Combined PRB shall consist of at least three voting members. In case of an appraisal of a career appointee, more than half of the members shall consist of career appointees. The names and titles of the Combined PRB members are as follows:

Primary Members

Jerry Horton, Associate Director, Chief Information Officer (Acting Deputy Director, United States Mint).

John Manfreda, Administrator, TTB.

Pamela J. Gardiner, Associate Director (Management), BEP.

Cynthia Z. Springer, Assistant Commissioner (Office of Information Technology), BPD.

Judy Tillman, Assistant Commissioner, Regional Operations, FMS.

Alternate Members

Marcia Coates, Senior Advisor, United States Mint.

James Martin Mills, Assistant Commissioner, Debt Management Services, FMS.

Gregory D. Carper, Associate Director, CFO, BEP.

John R. Swales, Assistant Commissioner (Office of Securities Operations), BPD.

Vicky McDowell, Deputy Administrator, TTB.

DATES: Membership is effective on September 30, 2005.

FOR FURTHER INFORMATION CONTACT: Jerry Horton, Associate Director, Chief Information Officer (Acting Deputy Director, United States Mint), United States Mint, 801 9th Street, NW., Washington, DC 20220. Telephone Number: (202) 772-7000.

This notice does not meet the Department's criteria for significant regulations.

Dated: October 12, 2005.
Jerry Horton,
Associate Director, Chief Information Officer, (Acting Deputy Director), United States Mint.

[FR Doc. 05-20828 Filed 10-17-05; 8:45 am]

BILLING CODE 4810-37-P